COMMITTEE FOR PURCHASE FROM PEOPLE WHO ARE BLIND OR SEVERELY DISABLED

Procurement List Additions

AGENCY: Committee for Purchase from People Who Are Blind or Severely Disabled.

ACTION: Additions to Procurement List.

SUMMARY: This action adds to the Procurement List a product and services to be furnished by nonprofit agencies employing persons who are blind or have other severe disabilities.

EFFECTIVE DATE: March 18, 2007.

ADDRESSES: Committee for Purchase From People Who Are Blind or Severely Disabled Jefferson Plaza 2, Suite 10800, 1421 Jefferson Davis Highway, Arlington, Virginia 22202-3259.

FOR FURTHER INFORMATION OR TO SUBMIT COMMENTS CONTACT: Sheryl D. Kennerly, Telephone: (703) 603-7740, Fax: (703) 603-0655, or e-mail CMTEFedReg@jwod.gov.

SUPPLEMENTARY INFORMATION: On December 1, December 15, and December 22nd 2006, the Committee for Purchase From People Who Are Blind or Severely Disabled published notice (71 FR 69537; 75496; 76966) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following product and services are added to the Procurement List:

Product

Retractable ID Badge Holder

NSN: 8455-00-NIB-0012-Black

NPA: West Texas Lighthouse for the Blind, San Angelo, TX

Contracting Activity: GSA, Southwest Supply Center, Fort Worth, TX

Coverage: A-list—for the total Government requirement as specified by the General Services Administration

Services

Service Type/Location: Base Supply Center, U.S. Census Bureau Federal Building, Suitland, MD.

NPA: Winston-Salem Industries for the Blind, Winston-Salem, NC.

Contracting Activity: U.S. Census Bureau, Suitland, MD.

Service Type/Location: Base Supply Center & Individual Equipment Element, Patrick Air Force Base/40 CONS/LGCBA (1201 Edward H. White II Street), Patrick AFB, FL.

NPA: L.C. Industries For The Blind, Inc., Durham, NC.

Contracting Activity: 45th Contracting Squadron/LGCAA, Patrick AFB, FL.

Service Type/Location: Custodial Services, U.S. Park Police, 661 Cowles Ave, Horse Mounted Patrol (HMP) Office (Excluding Horse Stable Area), San Francisco, CA.

Service Type/Location: Custodial Services, U.S. Park Police—Presidio Park Police Locations, 1217 Ralston Avenue (Excluding Basement Area), San Francisco, CA.

NPA: Toolworks, Inc., San Francisco, CA.

Contracting Activity: U.S. Park Police (Presidio of San Francisco), San Francisco, CA.

This action does not affect current contracts awarded prior to the effective date of this addition or options that may be exercised under those contracts.

Sheryl D. Kennerly,
Director, Information Management.

[FR Doc. E7-2784 Filed 2-15-07; 8:45 am]

BILLING CODE 6353-01-P